COMMODITY FUTURES TRADING COMMISSION

Sunshine Act Meeting—Emergency Meeting Notice

This notice that an emergency meeting was held is published pursuant to the provisions of the Government in the Sunshine Act, Public Law 94-409, 5 U.S.C. 552b.

Agency Holding the Meeting: Commodity Futures Trading Commission.

Time and Date: The Commission held an emergency closed meeting on November 2, 2011 at 10 a.m. The Commission, by a recorded unanimous vote, determined that the business of the agency required that the meeting be held at that time.

Place: Three Lafayette Center, 1155 21st St., NW., Washington, DC, 9th Floor Commission Conference Room.

Status: Closed.

Matters To Be Considered: Registrant Financial Matters.

Contact Person For More Information: Sauntia S. Warfield, Assistant Secretary of the Commission, 202-418-5084.

Sauntia S. Warfield,
Assistant Secretary of the Commission.

[FR Doc. 2011-28773 Filed 11-2-11; 4:15 pm]

BILLING CODE 6351-01-P